DEPARTMENT OF THE INTERIOR

Fish and Wildlife Service

[FWS-R4-R-2011-N169; 40136-1265-0000-S3]

Bogue Chitto National Wildlife Refuge, LA and MS; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for Bogue Chitto National Wildlife Refuge (NWR) in St. Tammany and Washington Parishes, Louisiana, and Pearl River County, Mississippi. In the final CCP, we describe how we will manage this refuge for the next 15 years.

ADDRESSES: You may obtain a copy of the CCP by writing to: Mr. Daniel Breaux, Southeast Louisiana National Wildlife Refuge Complex, Bayou Lacombe Centre, 61389 Highway 434, Lacombe, LA 70445. Alternatively, you may download the document from our Internet Site at http://southeast.fws.gov/planning/ under “Final Documents.”

FOR FURTHER INFORMATION CONTACT: Mr. Daniel Breaux, at 985/882-2030 (telephone), 985/882-9133 (fax), or BogueChitto@fws.gov (email).

SUPPLEMENTARY INFORMATION:

Introduction

With this notice, we finalize the CCP process for Bogue Chitto NWR. We started this process through a notice in the Federal Register on February 20, 2009 (74 FR 7913). Please see that notice for more about the refuge.

We announce our decision and the availability of the final CCP and FONSI for Bogue Chitto NWR in accordance with the National Environmental Policy Act (NEPA) (40 CFR 1506.6 (b)) requirements. We completed a thorough analysis of impacts on the human environment, which we included in the draft comprehensive conservation plan and environmental assessment (Draft CCP/EA).

Compatibility determinations are also available in the CCP for: (1) Wildlife observation/photography; (2) recreational fishing; (3) recreational hunting; (4) environmental education and interpretation activities; (5) walking, hiking, and jogging; (6) camping; (7) forest management; (8) scientific research; (9) kayaking and canoeing; (10) boating; (11) nuisance animal control; and (12) bicycling.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Established in 1980, Bogue Chitto NWR is one of eight refuges managed as part of the Southeast Louisiana National Wildlife Refuge Complex (Complex). The refuge headquarters is located about 9 miles northeast of Slidell, Louisiana. The 36,502-acre refuge is bisected by the Pearl River, with portions in St. Tammany and Washington Parishes, Louisiana, and Pearl River County, Mississippi. On the Mississippi side of the river, the refuge is bounded by Old River Wildlife Management Area (15,400 acres) to the north and by the State of Louisiana's Pearl River Wildlife Management Area (35,031 acres) to the south, thereby forming nearly an 87,000-acre block of protected forested wetlands and adjacent uplands within the Pearl River Basin.

The public has the opportunity to hunt white-tailed deer, squirrel, turkey, waterfowl, and hog. Fishing is also available. Threatened and endangered species found on the refuge are: Ringed map turtle (Graptemys oculifera), gopher tortoise (Gopherus polyphemus), inflated heelsplitter mussel (Potamilus inflatus), and gulf sturgeon (Acipenser oxyrinchus desotoi). Access is primarily by boat on the Louisiana side, with road access available on the Mississippi side. In 2002, the Holmes Bayou walking trail was unveiled on the Louisiana side of the refuge. This 3/4-mile walking trail offers a unique journey into the interior of the refuge's majestic habitat. The Pearl River Turnaround area is being developed as a site for education and interpretation, as well as a site for the annual youth fishing rodeo.

Comments

We made copies of the Draft CCP/EA available for a 30-day public review and comment period via a Federal Register notice on May 27, 2011 (76 FR 30959). A news release was sent out to four local, State, and regional newspapers; six online media outlets; and two local radio networks. Copies of the Draft CCP/EA were posted at refuge headquarters and on the Service's Internet Web site and more than 100 copies were distributed to local landowners; the general public; and local, State, and Federal agencies. Respondents representing the Service, the Louisiana Department of Wildlife and Fisheries, and the National Park Service, as well as local citizens, submitted written comments by mail or email.

Selected Alternative

The Draft CCP/EA identified and evaluated three alternatives for managing the refuge over the next 15 years. After considering the comments we received and based on the professional judgment of the planning team, we selected Alternative B for implementation.

Implementing Alternative B will be the most effective management action for meeting the purposes of the refuge. Monitoring and surveying will be conducted systematically after assessing which species should be targeted, based on their population status and the staff's ability to indicate health of important habitat. Restoration efforts, the fire program, and forest management will reflect best management practices determined after examination of historical regimes, soil types and elevation, and the current hydrological system. Management actions will be monitored for effectiveness and adapted to changing conditions, knowledge, and technology. A Habitat Management Plan will be developed for future habitat projects and to evaluate previous actions.

This alternative identifies Holmes Island as a proposed Wilderness Study Area. We will maintain its wilderness character and within 10 years of the date of the CCP, will prepare a wilderness study report and additional NEPA documentation on whether Holmes Island should be formally designated by Congress as a unit of the National Wilderness Preservation System.

Public use programs will be updated to educate visitors about the reasons for management actions, and to provide quality experiences for refuge visitors. The Complex headquarters in Lacombe, Louisiana, will provide additional information about the refuge. Options and opportunities will be explored to expand visitor contact areas on the refuge. In an increasingly developing region, Alternative B will strive to achieve a balanced program of wildlife-dependent recreational activities and protection of wildlife resources.

This alternative also proposes to add six positions to current staffing dedicated primarily to the refuge in order to continue to protect resources, provide visitor services, and attain facility and equipment maintenance goals.

Authority

This notice is published under the authority of the National Wildlife Refuge System Improvement Act of 1997, Public Law 105-57.

Dated: September 27, 2011.
Mark J. Musaus,
Acting Regional Director.

[FR Doc. 2012-8292 Filed 4-5-12; 8:45 am]

BILLING CODE 4310-55-P